DEPARTMENT OF THE INTERIOR

National Park Service

[NPS-WASO-NRNHL-DTS#-41199; PPWOCRADI0, PCU00RP14.R50000]

National Register of Historic Places; Notification of Pending Nominations and Related Actions

AGENCY: National Park Service, Interior.

ACTION: Notice.

SUMMARY: The National Park Service is soliciting electronic comments on the significance of properties nominated before September 13, 2025, for listing or related actions in the National Register of Historic Places.

DATES: Comments should be submitted electronically by December 2, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before September 13, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

IOWA

Lee County

Donnellson Depot, 400 Mill Street, Donnellson, SG100012351

Marion County

Pella City Hall, Fire Station, and Jail, 604 Main Street, Pella, SG100012352

Woodbury County

Montgomery Ward Building, 413-417 Pierce Street, Sioux City, SG100012353

LOUISIANA

Lincoln Parish

Dubach Commercial Historic District, Roughly bounded by E Hico Street, McMullin, and Boulevard Street, Dubach, SG100012344

Ouachita Parish

Mineral Springs Christian Methodist Episcopal Church, 451 New Mineral Springs Rd., Calhoun, SG100012343

Richland Parish

Downtown Rayville, Roughly bounded by W Rosa St., Louisiana St., Bradley St., and S Eugene St., Rayville, SG100012342

St. Landry Parish

St. Luke General Hospital, 225 Guidroz Street, Arnaudville, SG100012341

Winn Parish

Sikes High School, 110 Second Street, Sikes, SG100012340

OHIO

Hamilton County

Lunkenheimer Valve Company Historic District, 2423, 2450 Beekman Street, 1515, 1530 Tremont Street, & 1545 Waverly Avenue, Cincinnati, SG100012346

OKLAHOMA

Okmulgee County

Haygood-Shephard American Legion Post 103, 800 North Wilson Avenue, Okmulgee, SG100012339

TEXAS

Bexar County

Buick Motor Company, 931 Broadway Street, San Antonio, SG100012349

A request for removal has been made for the following resource(s):

IOWA

Warren County

Polled Hereford Breed Origin Site, SW of Indianola, Indianola vicinity, OT83000408

Authority: Section 60.13 of 36 CFR part 60.

Sherry A. Frear,
Chief, National Register of Historic Places/National Historic Landmarks Program.

[FR Doc. 2025-19907 Filed 11-14-25; 8:45 am]

BILLING CODE 4312-52-P